COMMISSION ON CIVIL RIGHTS

Agenda and Notice of Public Meeting of the Pennsylvania Advisory Committee

Notice is hereby given, pursuant to the provisions of the rules and regulations of the U.S. Commission on Civil Rights, that a meeting of the Pennsylvania Advisory Committee to the Commission will convene at 12:00 p.m. and adjourn at 5:00 p.m. on Thursday, August 17, 2000, at the Philadelphia Convention Center Conference Room B, 12th and Arch Streets, Philadelphia, Pennsylvania 19107. The purpose of the meeting is to review the draft report, “Barriers to Minority and Women Owned Businesses in Pennsylvania”, develop preliminary conclusions and recommendations, and plan future activities.

Persons desiring additional information, or planning a presentation to the Committee, should contact Marc Pentino, Civil Rights Analyst, of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, July 19, 2000.
Edward A. Hailes, Jr.,
Acting General Counsel.

[FR Doc. 00-18629 Filed 7-21-00; 8:45 am]

BILLING CODE 6335-01-P